DEPARTMENT OF AGRICULTURE

Food and Nutrition Service

Agency Information Collection Activities: Proposed Collection; Comment Request: Additional Information To Be Collected From Sub-Grantees Under Uniform Grant Application Package for Discretionary Grant Programs

AGENCY: Food and Nutrition Service (FNS), USDA.

ACTION: Notice.

SUMMARY: Cooperative agreement recipients of the United States Department of Agriculture's (USDA) Food and Nutrition Service (FNS) plan to collect additional information from sub-grantee applicants associated with the Healthy Meals Incentive Initiative (HMI 2) related to School Food System Transformation. FNS already has approval from the Office of Management and Budget (OMB) for the collection of information associated with the original cooperative agreement under the Uniform Grant Application for Non-Entitlement Discretionary Grants, as approved under OMB Control Number: 0584-0512 (Expiration Date: July 31, 2025). This notice solicits public comment on the additional information proposed for collection.

DATES: To be assured of consideration, written comments must be submitted or postmarked on or before October 12, 2023.

ADDRESSES:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond.

Comments must be submitted through one of the following methods:

• Preferred method: Submit information through the Federal eRulemaking Portal at http://www.regulations.gov. Follow the online instructions for submissions.

• Email: Send comments to Bethany.Showell@usda.gov with a subject line “Sub-grantee information collection under OMB Control No. 0584-0512”

FOR FURTHER INFORMATION CONTACT: Bethany Showell of Food and Nutrition Service, U.S. Department of Agriculture, 1320 Braddock Place, Alexandria, Virginia 22314, 703-457-6783, or email bethany.showell@usda.gov.

SUPPLEMENTARY INFORMATION: Four cooperative agreement recipients of the United States Department of Agriculture's (USDA) Food and Nutrition Service (FNS) will be soliciting requests for funding applications in the Fall of 2023 for sub-grantee proposals associated with the Healthy Meals Incentives Initiative (HMI 2) related to School Food System Transformation.

The Healthy Meals Incentives Initiative (HMI) is already addressed under OMB Approval No. 0584-0512 as the Child Nutrition Healthy Meals Incentive. FNS submitted a non-substantive change request to the Office of Management and Budget (OMB) to provide coverage under the Paperwork Reduction Act (PRA) for the request for proposals from sub-grantees. Out of an abundance of caution and to ensure the public is fully aware upfront of the proposed sub-grantee submittals, FNS is also simultaneously issuing this 30-day Federal Register Notice, as explicitly allowed under OMB Control No. 0584-0512.

Four FNS cooperative agreement recipients will ask for sub-grantee applications beyond the uniform grant application package discussed in OMB control 0584-0512. The sub-grantee proposals to be submitted will, in general, address projects that support the development of innovative solutions for K-12 food service transformation. The projects will support collaborative partnerships between non-governmental entities, school food authorities, and the school food industry to encourage new approaches for the improvement of the K-12 food system and to develop creative solutions to provide nutritious foods for school meals. The projects will balance a regional and national focus.

The burden hours associated with the request for applications from sub-grantees and the submittal of proposals, which we're referring to as HMI 2, are delineated in this Federal Register Notice and already covered under the “miscellaneous” grants portion of the existing OMB-approved information collection. That miscellaneous grants section is intended to encompass grants that FNS could not foresee when FNS submitted information collection request 0584-0512 to OMB.

There are burden hours associated with the cooperative agreement recipients' future drafting and posting of a request for applications from sub-grantees on each cooperator's website and associated communication efforts. The estimate is 10 hours for each of the four cooperators, for a total of 40 hours. These 40 hours would be taken from the existing competitive pre-award burden hours of approximately 4,823 already set aside for miscellaneous grants not explicitly identified in OMB approval number 0584-0512.

There are burden hours associated with the potential for up to 250 sub-grantee applicants to submit one proposal each. The associated burden would be 250 times 4 hours equals 1,000 hours. These 1,000 hours would be taken from the existing competitive pre-award total of 4,823 burden hours set aside for miscellaneous competitive grants in OMB approval number 0584-0512.

There are burden hours for sub-grantees' submittal of a progress report; there is a potential for up to 150 sub-grantees to submit a progress report which is equivalent to up to 150 sub-grantees times 3 hours or 450 reporting hours. These 450 hours would be taken from the post-award total of 770 hours set aside for miscellaneous competitive grants in OMB approval number 0584-0512.

FNS' cooperative agreement recipients who will be requesting project proposals from sub-grantees will utilize comments to be submitted to adjust the collection of additional information as necessary.

Tameka Owens,
Assistant Administrator, Food and Nutrition Service.

[FR Doc. 2023-19631 Filed 9-11-23; 8:45 am]

BILLING CODE 3410-30-P